Proclamation 8630 of February 28, 2011

Women’s History Month, 2011

By the President of the United States of America

A Proclamation

During Women’s History Month, we reflect on the extraordinary accomplishments of women and honor their role in shaping the course of our Nation’s history. Today, women have reached heights their mothers and grandmothers might only have imagined. Women now comprise nearly half of our workforce and the majority of students in our colleges and universities. They scale the skies as astronauts, expand our economy as entrepreneurs and business leaders, and serve our country at the highest levels of government and our Armed Forces. In honor of the pioneering women who came before us, and in recognition of those who will come after us, this month, we recommit to erasing the remaining inequities facing women in our day.

This year, we commemorate the 100th anniversary of International Women’s Day, a global celebration of the economic, political, and social achievements of women past, present, and future. International Women’s Day is a chance to pay tribute to ordinary women throughout the world and is rooted in women’s centuries-old struggle to participate in society on an equal footing with men. This day reminds us that, while enormous progress has been made, there is still work to be done before women achieve true parity.

My Administration has elevated the rights of women and girls abroad as a critical aspect of our foreign and national security policy. Empowering women across the globe is not simply the right thing to do, it is also smart foreign policy. This knowledge is reflected in the National Security Strategy of the United States, which recognizes that countries are more peaceful and prosperous when their female citizens enjoy equal rights, equal voices, and equal opportunities. Today, we are integrating a focus on women and girls in all our diplomatic efforts, and incorporating gender considerations in every aspect of our development assistance. We are working to build the participation of women into all aspects of conflict prevention and resolution, and we are continuing to lead in combating the scourge of conflict-related sexual violence, both bilaterally and at the United Nations.

In America, we must lead by example in protecting women’s rights and supporting their empowerment. Despite our progress, too many women continue to be paid less than male workers, and women are significantly underrepresented in the science, technology, engineering, and mathematics (STEM) fields. By tapping into the potential and talents of all our citizens, we can utilize an enormous source of economic growth and prosperity. The White House Council on Women and Girls has continued to remove obstacles to achievement by addressing the rate of violence against women, supporting female entrepreneurs, and prioritizing the economic security of women. American families depend largely on the financial stability of women, and my Administration continues to prioritize policies that promote workplace flexibility, access to affordable, quality health care and child care, support for family caregivers, and the enforcement of equal pay laws. I have also called on every agency in the Federal Government to be part of the solution to ending violence against women, and they have responded with unprecedented cooperation to protect victims of domestic and sexual violence and enable survivors to break the cycle of abuse.

As we reflect on the triumphs of the past, we must also look to the limitless potential that lies ahead. To win the future, we must equip the young women of today with the knowledge, skills, and equal access to reach for the promise of tomorrow. My Administration is making unprecedented investments in education and is working to expand opportunities for women and girls in the STEM fields critical for growth in the 21st-century economy.

As we prepare to write the next chapter of women’s history, let us resolve to build on the progress won by the trailblazers of the past. We must carry forward the work of the women who came before us and ensure our daughters have no limits on their dreams, no obstacles to their achievements, and no remaining ceilings to shatter.

NOW, THEREFORE, I, BARACK OBAMA, President of the United States of America, by virtue of the authority vested in me by the Constitution and the laws of the United States, do hereby proclaim March 2011 as Women’s History Month. I call upon all Americans to observe this month and to celebrate International Women’s Day on March 8, 2011 with appropriate programs, ceremonies, and activities that honor the history, accomplishments, and contributions of American women. I also invite all Americans to visit www.WomensHistoryMonth.gov to learn more about the generations of women who have shaped our history.

IN WITNESS WHEREOF, I have hereunto set my hand this twenty-eighth day of February, in the year of our Lord two thousand eleven, and of the Independence of the United States of America the two hundred and thirty-fifth.

[FR Doc. 2011-5030

Filed 3-2-11; 11:15 am]

Billing code 3195-W1-P